SMALL BUSINESS ADMINISTRATION

[Declaration of Disaster #3533]

State of Tennessee

As a result of the President's major disaster declaration on July 29, 2003, I find that Shelby County in the State of Tennessee constitutes a disaster area due to damages caused by severe storms, high winds and heavy rain occurring on July 21 through July 22, 2003. Applications for loans for physical damage as a result of this disaster may be filed until the close of business on September 29, 2003 and for economic injury until the close of business on April 29, 2004 at the address listed below or other locally announced locations:

U.S. Small Business Administration, Disaster Area 2 Office, One Baltimore Place, Suite 300, Atlanta, GA 30308.

In addition, applications for economic injury loans from small businesses located in the following contiguous counties may be filed until the specified date at the above location: Fayette and Tipton in the State of Tennessee; Crittenden County in the State of Arkansas; and DeSoto and Marshall counties in the State of Mississippi.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
Economic Injury: Businesses and small agricultural cooperatives without credit available elsewhere | 2.953

The number assigned to this disaster for physical damage is 353311. For economic injury the number is 9W6000 for Tennessee; 9W6100 for Arkansas; and 9W6200 for Mississippi.

(Catalog of Federal Domestic Assistance Program Nos. 59002 and 59008)
Dated: July 30, 2003.
Herbert L. Mitchell,
Associate Administrator for Disaster Assistance.

[FR Doc. 03-19883 Filed 8-4-03; 8:45 am]

BILLING CODE 8025-01-P